DEPARTMENT OF THE INTERIOR

Bureau of Land Management

[OR-050-1430-EU; GP00026]

Notice of Proposed Decision To Amend Land Use Plan

May 25, 2000.

AGENCY: Bureau of Land Management.

ACTION: Notification of the proposed decision to amend the Brothers-La Pine Resource Management Plan.

SUMMARY: The Brothers-La Pine RMP will be amended to make available for direct sale the following public lands in Deschutes County, Oregon, under Section 7 of the Oregon Public Lands Transfer and Protection Act of 1998, at not less than the fair market value:

Williamette Meridian

T. 22 S., R. 10 E.,

Tract 38.

Containing 518.18 acres, more or less.

The Brothers-La Pine RMP assigns all lands administered by the Prineville District to one of three Land Tenure Zones. Lands in Zone 1 are identified for retention and may not be transferred from federal ownership. Lands designated as Z-2 are areas with potential for high public resource values that may be exchanged for lands with higher public values. Lands designated as Z-3 are areas that may be suitable for disposal through transfer to another agency, exchange, or public sale. The regulations at 43 CFR 2711.1-1(a) require that no parcel of public land may be offered for sale until it has been specifically identified in an approved land use plan (i.e. assigned to Land Tenure Zone 3). The parcel proposed for sale is Land Tenure Zone 2, but would be assigned to Land Tenure Zone 3 by this amendment.

The Oregon Public Land Transfer Act of 1998 states that Tract 38 may be sold at fair market value to Deschutes County, Oregon, provided that the land is determined to be suitable for sale through the lands use planning process. The Environmental Assessment for Direct Sale of Public Land and Amendment to the Brothers-La Pine Resource Management Plan and public and interagency reviews are completed.

The RMP amendment would facilitate the completion of a land sale that is a key component in a program developed by Deschutes County to protect groundwater. The need by the county to acquire this parcel was identified during the Regional Public Solving Project, which is a State of Oregon sponsored process to evaluate community problems stemming from unregulated development that occurred prior to the implementation of state land use planning laws.

The Act also provides that the amount paid for the land shall be deposited in a special account for the purpose of purchasing environmentally sensitive land; in so doing, the Act provides for the acquisition of non-federal lands to replace federal lands sold to the county.

The patent would be issued subject to valid and existing rights and a reservation for ditches or canals as required by the Act of August 30, 1890 (43 U.S.C. 945). The patent would also be subject to a restrictive covenant that would prohibit the disposal of aggregate, sand, or gravel from the property.

ADDRESSES: Detailed information concerning the plan amendment and the direct sale of public lands is available for review at the office of the Bureau of Land Management, Prineville District, 3050 NE Third, Prineville, Oregon, 97754.

This decision may be appealed to the Interior Board of Land Appeals, Office of the Secretary, in accordance with the regulations contained in 43 CFR part 4 and on Form 1842-1. If an appeal is taken, your notice of appeal must be filed in this office (at the above address) within 45 days from the receipt of this decision. The appellant has the burden of showing that the decision appealed from is in error.

Dated: May 23, 2000.
Donald L. Smith,
Acting Prineville District Manager.

[FR Doc. 00-13988 Filed 6-22-00; 8:45 am]

BILLING CODE 4310-33-M